DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 3, 2008.

Interested persons are invited to submit written comments regarding the subject matter of the investigations to the Director, Division of Trade Adjustment Assistance, at the address shown below, not later than November 3, 2008.

The petitions filed in this case are available for inspection at the Office of the Director, Division of Trade Adjustment Assistance, Employment and Training Administration, U.S. Department of Labor, Room C-5311, 200 Constitution Avenue, NW., Washington, DC 20210.

Signed at Washington, DC, this 16th day of October 2008.
Erin FitzGerald,
Director, Division of Trade Adjustment Assistance.

APPENDIX

TAA Petitions Instituted Between 10/6/08 and 10/10/08
TA-W | Subject firm (petitioners) | Location | Date of institution | Date of petition
64165 | Adrian Fabricators, Inc. (Comp) | Adrian, MI | 10/06/08 | 10/01/08
64166 | Best Foam (Wkrs) | Sherman, MS | 10/06/08 | 10/02/08
64167 | Sanmina-SCI USA, Inc. (State) | Costa Mesa, CA | 10/06/08 | 10/02/08
64168 | Dynamic Cooking Systems, Inc. (Comp) | Huntington Beach, CA | 10/06/08 | 09/26/08
64169 | Fisher and Paykel Appliances, Inc. (Comp) | Huntington Beach, CA | 10/06/08 | 10/02/08
64170 | Pretty Products, LLC (Comp) | Mt. Pleasant, TN | 10/06/08 | 09/30/08
64171 | Wheeling Brake Band Friction Mfg. (Wkrs) | Glen Dale, WV | 10/06/08 | 10/03/08
64172 | Zippo Manufacturing Company (Comp) | Bradford, PA | 10/06/08 | 10/03/08
64173 | Ellen Tracy (Wkrs) | New York, NY | 10/06/08 | 10/01/08
64174 | Loewenstein/Brown Jordan International (Wkrs) | Greensboro, NC | 10/07/08 | 06/06/08
64175 | Hanley Wood, LLC (Comp) | Chicago, IL | 10/07/08 | 10/06/08
64176 | Leggett and Platt (Comp) | Cerritos, CA | 10/07/08 | 10/06/08
64177 | Louis Hornick & Company, Inc. (Wkrs) | Haverstraw, NY | 10/07/08 | 09/26/08
64178 | Elbeco Incorporated/City Shirt Company (Comp) | Frackville, PA | 10/07/08 | 10/06/08
64179 | Elbeco Incorporated/Galion Manufacturing Co. (Comp) | Galion, OH | 10/07/08 | 10/06/08
64180 | Conestoga Wood Specialties Corp (Wkrs) | Beavertown, PA | 10/07/08 | 09/26/08
64181 | Autoliv (Comp) | Columbia City, IN | 10/07/08 | 06/06/08
64182 | Fairmont Dairy LLC (Comp) | Belleville, PA | 10/08/08 | 09/25/08
64183 | Prairie Wood Products (State) | Prairie City, OR | 10/08/08 | 10/01/08
64184 | Protient, Inc. (State) | Norfolk, NE | 10/08/08 | 10/07/08
64185 | PL Subsidiary, Inc. (Comp) | Charlotte, NC | 10/08/08 | 10/07/08
64186 | American Polymer, Inc. (Wkrs) | Oxford, MA | 10/08/08 | 10/06/08
64187 | Coupled Products LLC (Comp) | Columbia City, IN | 10/08/08 | 10/07/08
64188 | Winston Furniture (State) | Haleyville, AL | 10/08/08 | 10/06/08
64189 | Dura Automotive (Wkrs) | Lawrence­burg, TN | 10/08/08 | 09/16/08
64190 | Hafner USA (State) | New York, NY | 10/08/08 | 10/03/08
64191 | Bill Sills Sportswear, Inc. (Comp) | Huntingdon, TN | 10/09/08 | 10/06/08
64192 | Freudenberg-NOK (Comp) | Scottsburg, IN | 10/09/08 | 10/08/08
64193 | American Velvet Company (State) | Stonington, CT | 10/09/08 | 10/08/08
64194 | Formica Corporation (IUCWA) | Evendale, OH | 10/09/08 | 10/08/08
64195 | Enefco (State) | Auburn, ME | 10/09/08 | 10/08/08
64196 | Martinrea Heavy Stamping (Wkrs) | Shelbyville, KY | 10/09/08 | 10/08/08
64197 | Avid Medical Products (Comp) | Santa Ana, CA | 10/10/08 | 10/09/08
64198 | Cranston Print Works Company (Comp) | Webster, MA | 10/10/08 | 10/09/08
64199 | Cable Consultants, Inc. (Wkrs) | Corvallis, OR | 10/10/08 | 09/29/08
64200 | Bridgestone Firestone Diversified Products (Comp) | Noblesville, IN | 10/10/08 | 10/09/08
64201 | Order Acquisition (Comp) | Santa Clara, CA | 10/10/08 | 10/09/08
64202 | Barco, Inc. (Wkrs) | Xenia, OH | 10/10/08 | 10/09/08
64203 | Gates Rubber Company (State) | Siloam Springs, AR | 10/10/08 | 10/09/08
64204 | CMA Actuation Products (Wkrs) | Philipsburg, PA | 10/10/08 | 10/09/08
64205 | The Ohio Heart and Vascular Center (Wkrs) | Cincinnati, OH | 10/10/08 | 10/08/08
64206 | Hutchinson FTS, Inc. (State) | Reading, MI | 10/10/08 | 10/09/08
64207 | Delphi Electronics and Safety (Wkrs) | Vandalia, OH | 10/10/08 | 09/24/08
64208 | Anchor Glass Container (UAW) | Zanesville, OH | 10/10/08 | 09/25/08
64209 | Federal Screw Works (State) | Big Rapids, MI | 10/10/08 | 10/09/08

[FR Doc. E8-25070 Filed 10-21-08; 8:45 am]

BILLING CODE 4510-FN-P